FEDERAL COMMUNICATIONS COMMISSION

47 CFR Part 73

[DA No. 00-1001; MM Docket No. 99-214; RM-9546 and RM-9699]

Radio Broadcasting Services; Camp Wood and Rocksprings, TX

AGENCY: Federal Communications Commission.

ACTION: Final rule.

SUMMARY: This document substitutes Channel 251C3 for Channel 256A at Camp Wood, Texas, and modifies the construction permit for Station KAYG to specify operation on Channel 251C3, in response to a petition filed by La Radio Cristiana Network, Inc. See 64 FR 31532, June 11, 1999. The coordinates for Channel 251C3 at Camp Wood are 29-42-53 and 100-00-56. Mexican concurrence has been received for the allotment at Camp Wood. In response to a counterproposal filed by Frank Mccoy, we will allot Channel 295C2 at Rocksprings, Texas, at coordinates 30-02-44 and 10-19-00. There is a site restriction 10.8 kilometers west of the community. Mexican concurrence has been requested for the allotment at Rocksprings but notification has not yet been received. Therefore, operation with the facilities specified for Rocksprings herein is subject to modification, suspension, or termination without right to hearing, if found by the Commission to be necessary in order to conform to the 1992 USA-Mexico FM Broadcast Agreement or if specifically objected to by Mexico. With this action, this docketed proceeding is terminated.

DATES: Effective June 26, 2000.

FOR FURTHER INFORMATION CONTACT: Kathleen Scheuerle, Mass Media Bureau, (202) 418-2180.

SUPPLEMENTARY INFORMATION: This is a summary of the Commission's Report and Order, MM Docket No. 99-214, adopted April 19, 2000, and release May 12, 2000. The full text of this Commission decision is available for inspection and copying during normal business hours in the Commission's Reference Center, 445 12th Street, SW, Washington, DC. The complete text of this decision may also be purchased from the Commission's copy contractors, International Transcription Services, Inc., 1231 20th Street, NW., Washington, DC. 20036, (202) 857-3800, facsimile (202) 857-3805.

List of Subjects in 47 CFR Part 73

Radio broadcasting.

Part 73 of title 47 of the Code of Federal Regulations is amended as follows:

PART 73—[AMENDED]

1. The authority citation for part 73 continues to read as follows:

Authority: 47 U.S.C. 154, 303, 334 and 336.

§ 73.202 [Amended]

2. Section 73.202(b), the Table of FM Allotments under Texas, is amended by removing Campwood, Channel 256A and adding Camp Wood, Channel 251C3 and by adding Rocksprings, Channel 295C2.

Federal Communications Commission.
John A. Karousos,
Chief, Allocations Branch, Policy and Rules Division, Mass Media Bureau.

[FR Doc. 00-13702 Filed 6-2-00; 8:45 am]

BILLING CODE 6712-01-U